FEDERAL FINANCIAL INSTITUTIONS EXAMINATION COUNCIL

Appraisal Subcommittee; 60 Day Notice of Intent To Request Clearance for Extension of Collection of Information; Opportunity for Public Comment

AGENCY: Appraisal Subcommittee, Federal Financial Institutions Examination Council.

ACTION: Notice of intent to request from the Office of Management and Budget (“OMB”) clearance for extension of collections of information and request for comments.

SUMMARY: In accordance with the Paperwork Reduction Act of 1995 and 5 CFR Part 1320, Reporting and Recordkeeping Requirements, the Appraisal Subcommittee of the Federal Financial Institutions Examination Council (“ASC”) is soliciting comments on the need for the collection of information contained in 12 CFR Part 1102, Subpart A, Temporary Waiver Requests. The ASC also requests comments on the practical utility of the collection of information; the accuracy of the burden hour estimate; ways to enhance the quality, utility, and clarity of the information to be collected; and ways to minimize the burden to respondents, including use of automated information collection techniques or other forms of information technology.

DATES: Comments on this information collection must be received on or before December 28, 2007.

ADDRESSES: Send comments to Ben Henson, Executive Director, Appraisal Subcommittee, 2000 K Street, NW., Suite 310, Washington, DC 20006.

FOR FURTHER INFORMATION CONTACT: Marc L. Weinberg, General Counsel, Appraisal Subcommittee, at 2000 K Street, NW., Suite 310, Washington, DC 20006 or 202-293-6250.

SUPPLEMENTARY INFORMATION: Title: 12 CFR part 1102, subpart A; Temporary Waiver Requests.

ASC Form Number: None.

OMB Number: 3139-0003.

Expiration Date: Three years from OMB approval date.

Type of Request: Extension of existing collection of information.

Description of Need: The information sets out detailed procedures governing temporary waiver proceedings under § 1119(b) of the Title XI of the Financial Institutions Reform, Recovery, and Enforcement Act of 1989 (12 U.S.C. 3348(b)).

Automated Data Collection: None.

Description of Respondents: State, local or tribal government; individuals or households; and business and other for-profit institutions.

Estimated Average Number of Respondents: 1 respondent.

Estimated Average Number of Responses: Once.

Estimated Average Burden Hours per Response: 10 hours for each proceeding.

Estimated Annual Reporting Burden: 10 hours.

Dated: October 24, 2007.
By the Appraisal Subcommittee of the Federal Financial Institutions Examination Council.
Ben Henson,
Executive Director.

[FR Doc. 07-5365 Filed 10-26-07; 8:45 am]

BILLING CODE 6700-01-M